DEPARTMENT OF THE TREASURY

Internal Revenue Service

26 CFR Part 1

[TD 9078]

RIN 1545-AY76

Qualified Subchapter S Trust Election for Testamentary Trust; Correction

AGENCY: Internal Revenue Service (IRS), Treasury.

ACTION: Correction to final regulations.

SUMMARY: This document contains a correction to final regulations that were published in the Federal Register on July 17, 2003 (68 FR 42251) relating to a qualified subchapter S trust election for testamentary trust.

EFFECTIVE DATE: This correction is effective July 17, 2003.

FOR FURTHER INFORMATION CONTACT: Deane M. Burke (202) 622-3070 (not a toll free number).

SUPPLEMENTARY INFORMATION:

Background

The final regulations that are the subject of this correction are under section 1361 of the Internal Revenue Code.

Need for Correction

As published, the final regulations (TD 9078), contain an error that may prove to be misleading and is in need of clarification.

Correction of Publication

Accordingly, the publication of the final regulations (TD 9078), which were the subject of FR Doc. 03-18040, is corrected as follows:

On page 42251, column 3, in the preamble under the paragraph heading “Summary of Comments and Explanation of Provisions”, third paragraph, line 6, the language “revocable trust (QRT) for which an” is corrected to read “revocable trust for which an”.

Cynthia E. Grigsby,
Acting Chief, Publications and Regulations Branch, Legal Processing Division, Associate Chief Counsel (Procedure and Administration).

[FR Doc. 03-26802 Filed 10-22-03; 8:45 am]

BILLING CODE 4830-01-P